DEPARTMENT OF TRANSPORTATION

Federal Transit Administration

Urbanized Area Formula Grants; Passenger Ferry Grant Program

AGENCY: Federal Transit Administration (FTA), DOT.

ACTION: Notice of Funding Availability (NOFA): Solicitation of Project Proposals for the Passenger Ferry Grant Program.

SUMMARY: The Federal Transit Administration (FTA) announces the availability of Section 5307 Urbanized Area Formula Grant program funds in support of the Discretionary Passenger Ferry Grant program. This grant opportunity will be funded using $29.9 million in FY 2013 Urbanized Area Formula Grants program funds authorized by the Moving Ahead for Progress in the 21st Century Act (MAP-21), Public Law 112-141, July 6, 2012.

The Passenger Ferry Grant program (Ferry program), as authorized, is available to urbanized areas for the same general authority provided under 49 U.S.C. 5307 (Section 5307). However, within the authority provided to the Secretary of Transportation to develop a competitive process, FTA is limiting this discretionary opportunity to capital projects. These funds constitute a core investment in the enhancement and revitalization of public ferry systems in the Nation's urbanized areas. This notice solicits proposals to compete for Fiscal Year (FY) 2013 funding under the Ferry program and may include additional funds made available under future appropriations.

This notice also includes priorities established by FTA for these discretionary funds, criteria FTA will use to identify meritorious projects for funding, and the process to apply for funding. This announcement is available on the FTA Web site at: http//www.fta.dot.gov. FTA may announce final selections on the Web site and in the Federal Register. Additionally, a synopsis of this funding opportunity will be posted in the FIND module of the government-wide electronic grants (GRANTS.GOV) Web site at http://www.grants.gov.

DATES: Complete proposals for Ferry program projects must be submitted by 11:59 p.m. EDT on October 21, 2013. All proposals must be submitted electronically through the GRANTS.GOV APPLY function. Any agency intending to apply should initiate the process of registering on the GRANTS.GOV site immediately to ensure completion of registration before the submission deadline. Instructions for applying can be found on FTA's Web site at http://www.fta.dot.gov/grants/13093_3561.html and in the “FIND” module of GRANTS.GOV.

FOR FURTHER INFORMATION CONTACT: Contact the appropriate FTA Regional Office found at http://www.fta.dot.gov for proposal-specific information and issues. For program-specific questions, please contact Vanessa Williams, Office of Program Management, (202) 366-4818, email: Vanessa.williams@dot.gov. A TDD is available at 1-800-877-8339 (TDD/FIRS).

SUPPLEMENTARY INFORMATION:

Table Of Contents

A. FTA Ferry Program Authority

B. Program Description and Purpose

C. Program Information

1. Eligible Proposers

2. Eligible Projects

3. Cost Sharing and Matching

4. Eligible Sources of Match

D. Proposal Submission Process

E. Proposal Information

F. Proposal Content

G. Evaluation Criteria

H. Review and Selection Process

I. Award Information

J. Award Administration

K. Technical Assistance and Other Program Information

Appendix A: Registration in GRANTS.GOV

A. FTA Ferry Program Authority

Section 5307(h) of Title 49, United States Code, as established by MAP-21, authorizes FTA's Passenger Ferry Grant program. The program authorizes FTA to solicit grant applications and make grants for eligible projects on a competitive basis subject to the Section 5307 terms and conditions, unless noted otherwise in the competitive solicitation.

B. Program Description and Purpose

Improving and maintaining the Nation's public ferry systems is a key strategic goal of the U.S. Department of Transportation (DOT) and FTA. The Ferry program is intended to contribute to the improvement of the condition of the public ferry systems by providing financial assistance for capital projects. As part of the program and as evidenced in the criteria established for the program, FTA intends to prioritize ferry projects that aim to improve a system's state of good repair and that support the connection of ferry service with multiple modes of transportation, including but not limited to: rail, bus, intercity bus, and private transportation providers.

C. Program Information

1. Eligible Proposers

Eligible proposers and eventual grant applicants under this initiative must be eligible direct recipients of Section 5307 funds engaged in providing a public transportation passenger ferry service. Ferry systems that accommodate cars must also accommodate walk-on passengers.

2. Eligible Projects

Under this competitive program, eligible projects are capital projects including ferries, terminals, and related infrastructure. Capital projects include, but are not limited to, the purchase, replacement, or rehabilitation of, ferries and terminals and related equipment. Funds made available under this Notice of Funding Availability (NOFA) may not be used to fund operating expenses, planning, or preventive maintenance. FTA's Section 5307 formula funds may be used for these activities.

3. Cost Sharing or Matching

Costs will be shared at the following ratio:

i. The Federal share is 80 percent for capital projects with exceptions explained below:

○ The Federal share is 85 percent for net project costs for acquiring vehicles (including clean-fuel or alternative fuel) attributable to compliance with the Clean Air Act (CAA) or attributable to compliance with the Americans with Disabilities Act (ADA) of 1990.

○ The Federal share is 90 percent for net project costs for vehicle-related equipment or facilities (including clean-fuel or alternative-fuel vehicle-related equipment or facilities) attributable to compliance with the Clean Air Act (CAA) or Americans with Disabilities Act (ADA) of 1990.

FTA considers vehicle-related equipment to be equipment on and attached to the vehicle. The award recipient may itemize the cost of specific, discrete, vehicle-related equipment being purchased to be in compliance with ADA or CAA.

4. Eligible Sources of Match

After the appropriate Federal share is established, the applicant must provide the local share of the net project cost in cash (or in-kind) and must document in its grant application the source of the local match. The local match may include:

i. Cash from non-governmental sources other than revenues from providing public transportation services;

ii. Non-farebox revenues from the operation of public transportation service, such as the sale of advertising and concession revenues. A voluntary or mandatory fee that a college, university, or similar institution imposes on all its students for free or discounted transit service is not farebox revenue;

iii. Amounts received under a service agreement with a State or local social service agency or private social service organization;

iv. Undistributed cash surpluses, replacement or depreciation cash funds, reserves available in cash, or new capital;

v. Amounts appropriated or otherwise made available to a department or agency of the Government (other than the U.S. Department of Transportation); and

vi. In-kind contribution such as the market value of in-kind contributions integral to the project may be counted as a contribution toward local share.

vii. Revenue bond proceeds for a capital project, with prior FTA approval.

viii. Transportation Development Credits (formerly referred to as Toll Revenue Credits).

D. Proposal Submission Process

Project proposals must be submitted electronically through http://www.GRANTS.GOV by 11:59 p.m. on October 21, 2013. Mail and fax submissions will not be accepted. A complete proposal submission will consist of at least two files: (1) The SF 424 Mandatory form (downloaded from GRANTS.GOV) and (2) the Applicant and Proposal Profile supplemental form for the Passenger Ferryboat program (supplemental form) found on the FTA Web site at http://www.fta.dot.gov/grants/13093_3561.html. The supplemental form provides guidance and a consistent format for proposers to respond to the criteria outlined in this NOFA. Once completed, the supplemental form must be placed in the attachments section of the SF 424 Mandatory form. Proposers must use the supplemental form designated for the Ferry program and attach it to their submission in GRANTS.GOV to successfully complete the application process. A proposal submission may contain additional supporting documentation as attachments.

Within 24-48 hours after submitting an electronic application, the applicant should receive three email messages from GRANTS.GOV: (1) Confirmation of successful transmission to GRANTS.GOV, (2) confirmation of successful validation by GRANTS.GOV and (3) confirmation of successful validation by FTA. If confirmations of successful validation are not received and a notice of failed validation or incomplete materials is received, the applicant must address the reason for the failed validation, as described in the email notice, and resubmit before the submission deadline. If making a resubmission for any reason, include all original attachments regardless of which attachments were updated and check the box on the supplemental form indicating this is a resubmission.

Complete instructions on the application process can be found at http://www.fta.dot.gov/grants/13093_3561.html. Important: FTA urges proposers to submit their applications at least 72 hours prior to the due date to allow time to receive the validation messages and to correct any problems that may have caused a rejection notification. FTA will not accept submissions after the stated submission deadline. GRANTS.GOV scheduled maintenance and outage times are announced on the GRANTS.GOV Web site at http://www.GRANTS.GOV. Deadlines will not be extended due to scheduled maintenance or outages.

Proposers are encouraged to begin the process of registration on the GRANTS.GOV site well in advance of the submission deadline. Registration is a multi-step process, which may take several weeks to complete before an application can be submitted. Registered proposers may still be required to take steps to keep their registration up to date before submissions can be made successfully: (1) Registration in the System for Award Management (SAM) is renewed annually and (2) persons making submissions on behalf of the Authorized Organization Representative (AOR) must be authorized in GRANTS.GOV by the AOR to make submissions. Instructions on the GRANTS.GOV registration process are listed in Appendix A.

Proposers may submit one proposal for each project or one proposal containing multiple projects. Proposers submitting multiple projects in one proposal must be sure to clearly define each project by completing a supplemental form for each project. Supplemental forms must be added within the proposal by clicking the “add project” button in Section II of the supplemental form.

Information such as proposer name, Federal amount requested, local match amount, description of areas served, etc. may be requested in varying degrees of detail on both the SF 424 form and supplemental form. Proposers must fill in all fields unless stated otherwise on the forms. Proposers should use both the “Check Package for Errors” and the “Validate Form” validation buttons on both forms to check all required fields on the forms, and ensure that the federal and local amounts specified are consistent. The following information MUST be included on the SF 424 and supplemental forms for all requests for the Ferry program funding:

E. Proposal Information

1. Name of applicant and, if applicable, the specific ferry agency submitting the application.

2. Dun and Bradstreet (D&B) Data Universal Numbering System (DUNS) number.

3. Contact information including: Contact name, title, address, congressional district, fax and phone number, and email address if available.

4. Description of public transportation services including areas currently served by the ferry system, if any.

5. Name of person (s) authorized to apply on behalf of the system (attach a signed transmittal letter) must accompany the proposal.

F. Proposal Content

For complete and up to date guidance on the project information and project evaluation criteria that must be documented, refer to the applicable program on the FTA Web site: http://www.fta.dot.gov/grants/13093_3561.html. At a minimum, every proposal must:

1. Submit an SF-424 with the correct supplemental form attached.

2. State the project title and describe the project scope to be funded in the executive summary.

3. Address whether project will need a Buy America waiver.

4. Choose the type of service provided, project type and fleet information.

5. Address each evaluation criterion separately, demonstrating how the project responds to each criterion.

6. Provide a line-item budget for the total project, with enough detail to indicate the various key components of the project. As FTA may elect to fund only part of some project proposals, the budget should provide for the minimum amount necessary to fund specific project components of independent utility.

7. Provide the Federal amount requested.

8. Document the matching funds, including amount and source of the match (may include local or private sector financial participation in the project).

9. Provide support documentation, including financial statements, bond-ratings, and documents supporting the commitment of non-federal funding to the project, or a timeframe upon which those commitments would be made.

10. Address whether other Federal funds have been sought for the project.

11. Provide a project time-line, including significant milestones such as the date anticipated to issue a request for proposals for the project components or contract for purchase of ferry(s), and actual or expected delivery date or notice of request for proposal and notice to proceed for capital replacement/rehabilitation projects.

12. Provide Congressional district information for the project's place of performance.

G. Evaluation Criteria

Projects will be evaluated by FTA based on the proposals submitted according to the following criteria. Each proposer is encouraged to demonstrate the responsiveness of a project to any and all criteria with the most relevant information that the proposer can provide, regardless of whether such information has been specifically requested, or identified in this notice.

1. Demonstration of Need

FTA will evaluate each project to determine its need for resources. In addition to the project-specific criteria below, it will include evaluating the project's impact on service delivery and whether the project represents a one-time or periodic need that cannot reasonably be funded from FTA program formula allocations or State and/or local resources.

i. For vessel replacement or rehabilitation projects:

• The age of the asset to be replaced or rehabilitated by the proposed project, relative to its useful life.

• Condition and performance of the asset to be replaced by the proposed project, as ascertained through inspections or otherwise, if available.

ii. For infrastructure (facility) improvements or related-equipment acquisitions:

• The age of the facility or equipment to be rehabilitated or replaced relative to its useful life.

• The degree to which the proposed project will enable the agency to improve the maintenance and condition of the agency's fleet and/or other related ferry assets.

iii. For expansion requests (vessel or facility-related):

• The degree to which the proposed project addresses a current capacity constraint that is limiting the ability of the agency to provide reliable service, meet ridership demands, or maintain vessels and related-equipment in a state of good repair.

In this section, the proposal should also demonstrate the needs of the ferry passengers and discuss how the proposed project will address the identified needs.

2. Demonstration of Benefits

In this section, proposals should identify expected project benefits. Possible examples include how the project: will improve the state of good repair of the system, impact ridership, increase reliability of service, improve operations or maintenance capabilities, or provide more mobility options, intermodal connections, or economic benefits to the community. Benefits can be demonstrated quantifiably or qualitatively. Proposers should document, explain or show the benefits in whatever format is reasonable to present them.

3. Planning and Local/Regional Prioritization

In this section, the applicant should describe how the proposed project is consistent with planning documents and local priorities. This will involve assessing whether:

i. The project is consistent with the transit priorities identified in the long-range plan and/or contingency/illustrative projects. Proposer should note if the project could not be included in the financially constrained Transportation Improvement Plan (TIP)/Statewide Transportation Improvement Program (STIP) due to lack of funding (if selected, project must be in federally approved STIP before grant award).

ii. Local support is demonstrated by availability of local match for this and/or related projects and letters of support.

iii. In an area with both ferry and other public transit operators, the proposal demonstrates coordination with and support of other related projects within the proposer's Metropolitan Planning Organization (MPO) or the geographic region within which the proposed project will operate.

4. Project Readiness

In this section, the applicant should describe the extent to which the project is ready to be implemented. This will involve assessing whether:

i. The project is a Categorical Exclusion (CE) or required environmental work has been initiated or completed for construction projects requiring an Environmental Assessment (EA) or Environmental Impact Statement (EIS).

ii. Project implementation plans are ready, including initial design of facility projects.

iii. The TIP/STIP can be amended (evidenced by MPO/State endorsement).

iv. Project funds can be obligated and the project implemented quickly, if selected.

v. The project will require a Buy America waiver.

The applicant demonstrates the ability to carry out the proposed project successfully.

5. Technical, Legal, and Financial Capacity To Implement the Particular Project Proposed

In this section, the applicant should address all of the following points:

i. The proposer has the technical capacity to administer the project.

ii. There are no outstanding legal, technical, or financial issues with the proposer that would make this a high-risk project to implement quickly.

iii. The proposer has good financial systems in place that meet generally acceptable accounting standards that can be audited and has identified the source of local match if selected (no deferred local share will be allowed).

iv. The grantee is in fundable status for grant-making purposes.

6. Connectivity to Other Modes of Transportation

The proposals should include information about transfer connections to other modes of transportation, including but not limited to: rail, bus, intercity bus, and private transportation providers. Supporting documentation should include data that supports the number of trips (passengers and vehicles), the number of walk-on passengers, and transfers to other modes (if applicable).

H. Review and Selection Process

In addition to other FTA staff that may review the proposals, a technical evaluation committee will review proposals under the project evaluation criteria. Members of the technical evaluation committee and other involved FTA staff reserve the right to screen and rate the applications it receives and to seek clarification from any applicant about any statement in its application that FTA finds ambiguous and/or request additional documentation to be considered during the evaluation process to clarify information contained within the proposal.

After consideration of the findings of the technical evaluation committee, the FTA Administrator will determine the final selection and amount of funding for each project. Geographic diversity and the applicant's receipt of other Federal funding for ferries may be considered in FTA's award decisions. FTA expects to announce the selected projects and notify successful proposers by September 2013.

I. Award Information

Ferry program funds are available to eligible direct recipients of Section 5307 funds. There is no minimum or maximum grant award level; however, FTA intends to fund as many meritorious projects as possible. Only proposals from eligible recipients for eligible activities will be considered for funding. Due to funding limitations, proposers that are selected for funding may receive less than the amount originally requested. In those cases, applicants must be able to demonstrate that the proposed projects are still viable and can be completed with the amount awarded.

J. Award Administration

1. Award Notices

At the time the project selections are announced, FTA will extend pre-award authority for the selected projects. There is no blanket pre-award authority for these projects before announcement.

2. Administrative and National Policy Requirements

i. Grant Requirements

If selected, awardees will apply for a grant through FTA's Transportation Electronic Awards Management System (TEAM) and adhere to the customary FTA grant requirements of the Section 5307 Urbanized Area Formula Grant program, including those of FTA Circular 9030.1E, Circular 5010.1D, and the labor protections of 49 U.S.C. Section 5333(b). All discretionary grants, regardless of award amount, will be subject to the Congressional Notification and release process. Technical assistance regarding these requirements is available from each FTA regional office.

ii. Buy America

FTA requires that all capital procurements meet FTA's Buy America requirements that require all iron, steel, or manufactured products be produced in the U.S., to help create and protect manufacturing jobs in the U.S. The Ferry program will have a significant economic impact toward meeting the objectives of the Buy America law. The Buy America requirements can be found in 49 CFR Part 661. Any proposal that will require a waiver must identify the items for which a waiver will be sought in the application. Applicants should not proceed with the expectation that waivers will be provided.

iii. Planning

FTA encourages proposers to notify the appropriate State Departments of Transportation and MPOs in areas likely to be served by the project funds made available under these initiatives and programs. Selected projects must be incorporated into the long-range plans and transportation improvement programs of States and metropolitan areas before they are eligible for FTA funding.

iv. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

v. Reporting

Post-award reporting requirements include submission of Federal Financial Reports and Milestone Reports in TEAM on a quarterly basis for all projects.

K. Technical Assistance and Other Program Information

This program is not subject to Executive Order 12372, “Intergovernmental Review of Federal Programs.” FTA will consider applications for funding only from eligible recipients for eligible projects listed in Section C.

Complete applications must be submitted through GRANTS.GOV by 11:59 p.m. EDT on October 21, 2013. Contact information for FTA's regional offices can be found on FTA's Web site at www.fta.dot.gov.

Therese W. McMillan,
Deputy Administrator.

Appendix A

Registering in SAM and GRANTS.GOV

Registration in Brief

Registration takes approximately 3-5 business days, but allow 4 weeks for completion of all steps.

STEP 1: Obtain DUNS Number

Same day. If requested by phone (1-866-705-5711) DUNS is provided immediately. If your organization does not have one, you will need to go to the Dun & Bradstreet Web site at http://fedgov.dnb.com/webform [EXIT Disclaimer] to obtain the number. *Information for Foreign Registrants.*Webform requests take 1-2 business days.

STEP 2: Register With SAM

Three to five business days or up to two weeks. If you already have a TIN, your SAM registration will take 3-5 business days to process. If you are applying for an EIN please allow up to 2 weeks. Ensure that your organization is registered with the System for Award Management (SAM) at System for Award Management (SAM). If your organization is not, an authorizing official of your organization must register.

STEP 3: Username & Password

Same day. Complete your AOR (Authorized Organization Representative) profile on Grants.gov and create your username and password. You will need to use your organization's DUNS Number to complete this step. https://apply07.grants.gov/apply/OrcRegister.

STEP 4: AOR Authorization

*Same day. The E-Business Point of Contact (E-Biz POC) at your organization must login to Grants.gov to confirm you as an Authorized Organization Representative (AOR). Please note that there can be more than one AOR for your organization. In some cases the E-Biz POC is also the AOR for an organization. *Time depends on responsiveness of your E-Biz POC.

STEP 5: Track AOR Status

At any time, you can track your AOR status by logging in with your username and password. Login as an Applicant (enter your username & password you obtained in Step 3) using the following link: applicant_profile.jsp.

[FR Doc. 2013-20278 Filed 8-20-13; 8:45 am]

BILLING CODE P